DEPARTMENT OF LABOR

Employment and Training Administration

[TA-W-58,911]

International Business Machines Corporation (IBM); San Jose, CA; Notice of Termination of Investigation

Pursuant to section 221 of the Trade Act of 1974, as amended, an investigation was initiated on February 27, 2006, in response to a worker petition filed by the state workforce office on behalf of a worker at IBM, San Jose, California.

The Department has determined the worker on whose behalf the petition was filed was not an employee of IBM, San Jose, California. Consequently, further investigation would serve no purpose and the investigation has been terminated.

Signed at Washington, DC, this 17th day of March 2006.
Linda G. Poole,
Certifying Officer, Division of Trade Adjustment Assistance.

[FR Doc. E6-4856 Filed 4-3-06; 8:45 am]

BILLING CODE 4510-30-P